DEPARTMENT OF COMMERCE

National Oceanic and Atmospheric Administration

[RTID 0648-XD799]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council will hold a public webinar to collect input on the Summer Flounder Commercial Mesh Size Exemptions Framework/Addendum.

DATES: The meeting will be held on Tuesday, April 2, 2024, from 2 p.m. until 4 p.m. EDT. For agenda details, see SUPPLEMENTARY INFORMATION.

ADDRESSES: The meeting will be held via webinar. Connection information will be posted prior to the meeting at www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council (Council) will host a webinar to collect public input on draft alternatives for a framework action/addendum to consider revisions to two exemptions to the summer flounder commercial minimum mesh size requirements, including: (1) the Small Mesh Exemption Program (SMEP), and (2) the flynet exemption. This action was initiated in response to a Fall 2023 review of summer flounder commercial mesh regulations, and is being developed jointly with the Atlantic States Marine Fisheries Commission's Summer Flounder, Scup, and Black Sea Bass Board (Board).

Under the SMEP vessels landing more than 200 pounds of summer flounder east of longitude 72°30.0′ W, from November 1 through April 30, and using mesh smaller than 5.5-inch diamond or 6.0-inch square are required to obtain a SMEP permit from NMFS. Based on suggestions made by fishing industry representatives during the Fall 2023 review of this exemption, the Council and Board are considering modifications to the exempted area associated with this exemption.

The Council and Board are also considering modifications to the regulatory definition of a flynet as it relates to the flynet exemption to the summer flounder commercial minimum mesh size. Under the flynet exemption, vessels fishing with a two-seam otter trawl flynet with a specific mesh configuration are also exempt from the minimum mesh size requirements. The definition of an exempted flynet is being reconsidered in light of changes in the use and configuration of commercial trawl gear since this exemption was put in place in the 1990s.

The overarching aim of these considerations is to modernize these requirements, taking into account current fishing industry gear usage and practices. The Council seeks to provide additional flexibility to fishery participants while ensuring continued adherence to the conservation objectives outlined in the Fishery Management Plan.

The primary target audience for this webinar includes: (a) any commercial industry participant using trawl gear to fish for summer flounder, (b) commercial fishing industry participants utilizing either of the summer flounder mesh size exemptions while targeting any species, (c) any stakeholder with knowledge of these gear types and their use, and (d) any member of the public who wishes to provide comments or recommendations on these regulations. Additional information including background documents, can be found on the Council's website at: https://www.mafmc.org/.

Special Accommodations

The meeting is physically accessible to people with disabilities. Requests for sign language interpretation or other auxiliary aid should be directed to Shelley Spedden, (302) 526-5251, at least 5 days prior to the meeting date.

Authority: 16 U.S.C. 1801 et seq.

Dated: March 11, 2024.
Rey Israel Marquez,
Acting Deputy Director, Office of Sustainable Fisheries, National Marine Fisheries Service.

[FR Doc. 2024-05513 Filed 3-14-24; 8:45 am]

BILLING CODE 3510-22-P